DEPARTMENT OF HOMELAND SECURITY

United States Immigration and Customs Enforcement

Agency Information Collection Activities: Extension, Without Change, of an Existing Information Collection; Comment Request

ACTION: 30-Day Notice of Information Collection for Review; File No. I-395, Affidavit in Lieu of Lost Receipt of United States ICE for Collateral Accepted as Security; OMB Control No. 1653-0045.

The Department of Homeland Security, U.S. Immigration and Customs Enforcement (ICE), will submit the following information collection request for review and clearance in accordance with the Paperwork Reduction Act of 1995. The information collection is published to obtain comments from the public and affected agencies. The information collection was previously published in the Federal Register on August 20, 2012, Vol. 77 No. 20301 allowing for a 60 day comment period. No comments were received during this period. The purpose of this notice is to allow an additional 30 days for public comments.

Written comments and suggestions from the public and affected agencies regarding items contained in this notice and especially with regard to the estimated public burden and associated response time should be directed to the Office of Information and Regulatory Affairs, Office of Management and Budget. Comments should be addressed to OMB Desk Officer, for United States Immigration and Customs Enforcement, Department of Homeland Security, and sent via electronic mail to oirasubmission@omb.eop.gov or faxed to (202) 395-5806.

Comments are encouraged and will be accepted for thirty days until [insert date 30 days after date of publication in the Federal Register.] Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to becollected; and

(4) Minimize the burden of the collection of information on those who are to respond, including through the use of appropriate automated, electronic, mechanical, or other technological collection techniques or other forms of information technology, e.g., permitting electronic submission of responses.

Overview of This Information Collection

(1) Type of Information Collection: Extension, without change, of a currently approved information collection.

(2) Title of the Form/Collection: Affidavit in Lieu of Lost Receipt of United States ICE for Collateral Accepted as Security.

(3) Agency form number, if any and the applicable component of the Department of Homeland Security sponsoring the collection: (No. Form I-395); U.S. Immigration and Customs Enforcement.

(4) Affected public who will be asked or required to respond, as well as a brief abstract: Primary: Individual or Households. When an individual posts an Immigration Bond in the form of cash, cashier's check, certified check or money order, he or she is issued a Receipt of Immigration Officer—U.S. Bonds or Cash, Accepted as Security on the Immigration Bond (Form I-305). If the I-305 is lost the individual is permitted to complete the I-395 stating the reason for the loss of the original I- 305.

(5) An estimate of the total number of respondents and the amount of time estimated for an average respondent to respond: 12,500 responses at 30 minutes (.50 hours) per response.

(6) An estimate of the total public burden (in hours) associated with the collection: 6,250 annual burden hours. Comments and/or questions; requests for a copy of the proposed information collection instrument, with instructions; or inquiries for additional information should be directed to: Scott Elmore, Forms Manager, U.S. Immigration and Customs Enforcement, 801 I Street NW., Stop 5800, Washington, DC 20536; (202) 732-2601.

Dated: November 2, 2012.
Scott Elmore,
Forms Manager, U.S. Immigration and Customs Enforcement, Department of Homeland Security.

[FR Doc. 2012-27077 Filed 11-6-12; 8:45 am]

BILLING CODE 9111-28-P